DEPARTMENT OF AGRICULTURE

Commodity Credit Corporation

Rural Business-Cooperative Service

Solicitation of Applications for the Higher Blends Infrastructure Incentive Program (HBIIP) for Fiscal Year 2021

AGENCY: Commodity Credit Corporation and the Rural Business-Cooperative Service, USDA.

ACTION: Notice; announcement of opening date for Higher Blends Infrastructure Incentive Program second application window.

SUMMARY: The Commodity Credit Corporation (CCC) and the Rural Business-Cooperative Service (RBCS), a Rural Development agency of the United States Department of Agriculture (USDA), announced the general policy and application procedures for funding under the Higher Blends Infrastructure Incentive Program (HBIIP) in a Notice of Funding Availability (NOFA) which published on May 5, 2020 in the Federal Register. HBIIP provides up to $100 million in competitive grants to eligible entities for activities designed to expand the sales and use of renewable fuels under the Higher Blends Infrastructure Incentive Program (HBIIP). This Notice announces the opening date for a second HBIIP application window for the remaining (approximately) $22 million (of the $100 million) and amends certain provisions and requirements of the original solicitation and clarifying notices published in the Federal Register on May 15, 2020 and June 3, 2020.

DATES: The Agency will begin accepting applications through the HBIIP online portal as provided on the program website, http://www.rd.usda.gov/HBIIP. Applications for enrollment in the Higher Biofuels Infrastructure Incentive Program will be accepted beginning December 21, 2020 through January 19, 2021. Applications received after 5:59 p.m. Eastern Standard Time on January 19, 2021 will not be considered.

ADDRESSES: Application Submission: Instructions and additional resources for the application system for electronic submissions are available at http://www.rd.usda.gov/HBIIP.

Electronic submissions: Electronic submissions of applications will allow for the expeditious review of an Applicant's proposal. All Applicants must file their application electronically.

FOR ADDITIONAL INFORMATION CONTACT: For general inquiries regarding the HBIIP, contact Anthony Crooks: Telephone (202) 205-9322, email: EnergyPrograms@usda.gov. Persons with disabilities that require alternative means for communication should contact the U.S. Department of Agriculture (USDA) Target Center at (202) 720-2600 (voice).

SUPPLEMENTARY INFORMATION:

Authority: This solicitation is issued pursuant to; 62 Stat 1070, and the Commodity Credit Corporation Charter Act of 1948 (Charter Act); U.S. Code 15 U.S.C. 714.

Congressional Review Act

The requirements of the Congressional Review Act (CRA; 5 U.S.C. 801 et seq.), as specified by the Office of Information and Regulatory Affairs in the Office of Management and Budget for this program were met with the original solicitation published in the Federal Register on May 5, 2020 at 85 FR 26656.

Paperwork Reduction Act

The information collection and recordkeeping requirements contained in this Notice have been approved under OMB Control Number 0570-0072.

Overview

Federal Agency: The Commodity Credit Corporation (CCC) and the Rural Business-Cooperative Service (RBCS), (USDA).

Funding Opportunity Title: Higher Blends Infrastructure Incentive Program (HBIIP) for Fiscal Year 2021.

Announcement Type: Solicitation of Applications; announcement of opening date for Higher Blends Infrastructure Incentive Program second application window.

Catalog of Federal Domestic Assistance (CFDA) Title: The Higher Blends Infrastructure Incentive Program (HBIIP)—10.754.

Due Date for Applications: Applications will be accepted beginning December 21, 2020 through January 19, 2021. Applications received after 5:59 p.m. Eastern Standard Time on January 19, 2021 will not be considered.

I. Background

On May 5, 2020, the CCC and RBCS (the Agency) published a NOFA in the Federal Register, 85 FR 26656, announcing the availability of up to $100 million in competitive grants to eligible entities for activities designed to expand the sales and use of renewable fuels under the Higher Blends Infrastructure Incentive Program (HBIIP).

Under the original solicitation and clarifying notices of May 15, 2020 (85 FR 29394) and June 3, 2020 (85 FR 37824), 128 companies were enrolled in the HBIIP online application system and 121 applications were successfully submitted in the application window (before 11:59 p.m. EDT, August 13, 2020).

All meritorious applications for fueling stations and fleet facilities were awarded funds, amounting to approximately $64.3 million.

Based on the awards made in the original solicitation, $16.8 million of the “Targeted Assistance Goal of approximately $40 million,” established for Owners of 10 fueling stations or fewer, was met.

The original solicitation limited awards to fuel distribution facilities to “approximately $14 million.” The amount requested by these applicants significantly exceeded the amount available.

Approximately $22 million remains available under the original solicitation, the Agency determined it is in the public interest to announce a second round of funding and to make available approximately $15 million to fueling stations and fleet facilities and approximately $7 million to fuel/biodiesel distribution facilities, for purposes as originally specified. Additionally, the Agency reserves discretion to reallocate available funds (among applicant types, as established in the original solicitation) based on the number of applications received, the amount of requested funds and any funds returned by program recipients or made otherwise available to the program.

The purpose of this Notice is to announce that the Agency will accept applications for 30 days for the HBIIP beginning December 21, 2020.

II. General Funding Information

A. Type of Instrument

Grants. Awards to successful applicants will be in the form of cost-share grants for up to 50 percent of total eligible project costs, but not to exceed $3 million, whichever is less.

B. Available Funds

Of the $100 million made available under HBIIP in the original solicitation of May 5, 2020, approximately $22 million remains to eligible participants. Of the total amount of remaining funds, approximately $15 million will be made available to transportation fueling facilities (including fueling stations, convenience stores, hypermarket fueling stations, fleet facilities, and similar entities with capital investments) for eligible implementation activities related to higher blends of fuel ethanol greater than 10 percent ethanol, such as E15 or higher; and approximately $7 million will be made available to fuel/biodiesel distribution facilities (including terminal operations, depots, midstream partners and heating oil distribution facilities or equivalent entities), for eligible implementation activities related to higher blends of biodiesel greater than 5 percent biodiesel, such as B20 or higher. The Agency reserves discretion to reallocate available funds (among applicant types, as established in the original solicitation) based on the number of applications received, the amount of requested funds and any funds returned by program recipients or made otherwise available to the program.

C. Approximate Number of Awards

The number of awards will depend on the number of eligible participants and the total amount of requested funds. In the unlikely event that every successful applicant is awarded the maximum amount available, 8 awards will be made.

III. Program Requirements and Changes

To be eligible for an award under this solicitation, applications must meet all the requirements contained in the HBIIP NOFA published in the Federal Register on May 5, 2020 (85 FR 26656) and clarifying notices; May 15, 2020 (85 FR 29394) and June 3, 2020 (85 FR 37824) with the following exceptions for this second round of funding:

1. Grants for up to 50 percent of total eligible project costs, but not more than $3 million are available to eligible participants;

2. Of the remaining $22 million, approximately $15 million is available to vehicle fueling facilities, including, but not limited to, local fueling stations/locations, convenience stores (CS), hypermarket fueling stations (HFS), and fleet facilities; and approximately $7 million is available for fuel/biodiesel distribution facilities, terminal operations, midstream partners, and heating oil distribution facilities or equivalent entities;

3. RBCS reserves discretion to reallocate available funds (among applicant types, as established in the original solicitation) based on the number of applications received, the amount of requested funds and any funds returned by program recipients or made otherwise available to the program; and

4. Applicants selected to receive funds in the first round of funding (original solicitation) will not be considered.

Information can also be found at http://www.rd.usda.gov/HBIIP.

Robert Stephenson,
Executive Vice President, Commodity Credit Corporation.
Mark Brodziski,
Deputy Administrator, Rural Business-Cooperative Service.

[FR Doc. 2020-27765 Filed 12-18-20; 8:45 am]

BILLING CODE 3410-05-P